DEPARTMENT OF THE TREASURY

Internal Revenue Service

26 CFR Part 1

[TD 9029]

RIN 1545-BA43

Information Reporting for Qualified Tuition and Related Expenses; Magnetic Media Filing Requirements for Information Returns; Correction

AGENCY: Internal Revenue Service (IRS), Treasury.

ACTION: Correction to final regulations.

SUMMARY: This document contains a correction to final regulations that were published in the Federal Register on Thursday, December 19, 2002 (67 FR 77678), relating to the information reporting requirements for qualified tuition and related expenses under section 6050S of the Internal Revenue Code.

DATES: This correction is effective December 19, 2002.

FOR FURTHER INFORMATION CONTACT: Tonya Christianson (202) 622-4910 (not a toll-free number).

SUPPLEMENTARY INFORMATION:

Background

The final regulations that are the subject of this correction are under section 6050S of the Internal Revenue Code.

Need for Correction

As published, these final regulations contain an error that may prove to be misleading and is in need of clarification.

Correction of Publication

Accordingly, the publication of final regulations (TD 9029), that were the subject of FR Doc. 02-31915, is corrected as follows:

§ 1.6050S-1 [Corrected]

On page 77684, column 1, § 1.6050S-1(b)(2)(vii), Example 4., line 7 from the bottom of paragraph (i), the language “expenses $6,000 for room and board for the” is corrected to read “expenses and $6,000 for room and board for the”.

Cynthia E. Grigsby,
Chief, Regulations Unit, Associate Chief Counsel (Procedure and Administration).

[FR Doc. 03-3092 Filed 2-6-03; 8:45 am]

BILLING CODE 4830-01-P